DEPARTMENT OF HEALTH AND HUMAN SERVICES

Food and Drug Administration

[Docket No. FDA-2018-N-3091]

Advisory Committee; Cardiovascular and Renal Drugs Advisory Committee; Renewal; Correction

AGENCY: Food and Drug Administration, HHS.

ACTION: Notice; correction.

SUMMARY: The Food and Drug Administration is correcting a notice entitled “Advisory Committee; Cardiovascular and Renal Drugs Advisory Committee; Renewal” that appeared in the Federal Register of December 13, 2022. The document announced the renewal of the Cardiovascular and Renal Drugs Advisory Committee. The document was published with the incorrect docket number. This document corrects that error.

FOR FURTHER INFORMATION CONTACT: Lisa Granger, Office of Policy, Planning, Legislation and International Affairs, Food and Drug Administration, 301-796-9115, Lisa.Granger@fda.hhs.gov.

SUPPLEMENTARY INFORMATION: In the Federal Register of Tuesday, December 13, 2022 (87 FR 76197), in FR Doc. 2022-27014, on page 76197 the following correction is made:

1. On page 76197, in the first column of the header of the document, “Docket No. FDA-2022-N-3091” is corrected to read “Docket No. FDA-2018-N-3091”.

Dated: January 3, 2023.
Lauren K. Roth,
Associate Commissioner for Policy.

[FR Doc. 2023-00390 Filed 1-10-23; 8:45 am]

BILLING CODE 4164-01-P